DEPARTMENT OF HOMELAND SECURITY

U.S. Immigration and Customs Enforcement

[DHS Docket No. ICEB-2026-0001-0001]

Departure Notification Record; Correction

AGENCY: U.S. Immigration and Customs Enforcement, Homeland Security.

ACTION: Notice; correction.

SUMMARY: On January 8, 2026, the Department of Homeland Security (DHS), U.S. Immigration and Customs Enforcement (ICE) published a 60-day notice in the Federal Register seeking public comments for a previously approved information collection entitled, “Departure Notification Record.” The 60-day notice contained an incorrect docket number. This document corrects that notice with the correct docket number, ICEB-2026-0001-0001, in the ADDRESSES and SUPPLEMENTARY INFORMATION sections.

FOR FURTHER INFORMATION CONTACT: If you have questions related to this collection please contact: Omar Charris, 202-200-1988, Omar.A.Charris@ice.dhs.gov, U.S. Immigration and Customs Enforcement. (This is not a toll-free number. Comments are not accepted via telephone message.)

SUPPLEMENTARY INFORMATION:

Correction

In the Federal Register of January 8, 2026, in FR Doc. 2026-00118 on page 717 column three in the heading, and under ADDRESSES, lines five and thirteen and page 718 column one, paragraph one, line six, correct the docket number to read as ICEB-2026-0001-0001.

Sharon Hageman,
Deputy Assistant Director, Office of Regulatory Affairs and Policy, U.S. Immigration and Customs Enforcement.

[FR Doc. 2026-00593 Filed 1-13-26; 8:45 am]

BILLING CODE 9111-28-P